DEPARTMENT OF HEALTH AND HUMAN SERVICES

Agency for Toxic Substances and Disease Registry

[30Day-14-13AIM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Chemical Emergencies Audience Analysis—New—Agency for Toxic Substances and Disease Registry (ATSDR).

Background and Brief Description

The National Center for Environmental Health (NCEH) and the Agency for Toxic Substances and Disease Registry (ATSDR) play a vital role in mitigating chemical-related risks to public health. As part of that role, both agencies are responsible for assessing, minimizing, and monitoring risks to public health, and are tasked with providing trusted, accurate health information to the public. Given that both agencies are under the same leadership, information collected to inform health communications will be of value to both agencies.

The Office of Communications is seeking a one-year OMB-approval for an initiative to increase the effectiveness of the agencies' communications related to both unintentional and intentional chemical releases. In order to inform the development of messages and materials, the Office of Communications would like to understand the knowledge, attitudes, and behaviors (KAB) of key professional audiences who are involved in the immediate aftermath of chemical emergencies. In consultation with Subject Matter Experts, the Office of Communications prioritized the following professional audiences for this research:

• First responders, including police, fire fighters and emergency medical service workers

• Emergency department personnel, both clinical and non-clinical

• Environmental and public health professionals at the city, county and state levels

• Poison Control Center directors and staff

This information collection seeks to characterize what these key professionals know and believe about chemical emergency events, what related activities and behaviors they engage in or would engage in, what information these audiences want, and what their challenges and concerns are.

This information collection seeks approval to obtain data using two qualitative data collection methods. The first method includes focus groups to explore the KAB of members of these key professions in a group setting, allowing for dialogue between participants to provide the Office of Communications with in-depth information about this complex topic. Focus groups will take place remotely using Webinar technology, and participants will join the discussion by telephone. Although the Recruitment Screeners vary by respondent type, the same Moderator's Guide will be used for all focus groups. The second part of this information collection will include individual interviews with state-level environmental health professionals and Poison Control Center directors. Individual interviews will allow the agencies to gather in-depth information about state-level response structures and Poison Control Centers. Interviews will take place by telephone. To help ensure that participants have some experience responding to chemical emergencies, participants will be recruited from five states with the highest number of chemical emergencies, and within those states, from the areas where the highest number of incidents have occurred.

There are no costs to respondents other than their time. The total estimated annual burden hours are 138 hours.

Estimated Annualized Burden Hours
Type of respondents | Form name | Number of respondents | Number of responses per respondent | Average burden per response (in hrs.)
First responders | Focus Group Recruitment Screener | 72 | 1 | 5/60
| Focus Group Moderator Guide | 36 | 1 | 1
Emergency department personnel | Focus Group Recruitment Screener | 72 | 1 | 5/60
| Focus Group Moderator Guide | 36 | 1 | 1
County or city environmental health professionals | Focus Group Recruitment Screener | 36 | 1 | 5/60
| Focus Group Moderator Guide | 18 | 1 | 1
Poison Control Center staff | Focus Group Recruitment Screener | 36 | 1 | 5/60
| Focus Group Moderator Guide | 18 | 1 | 1
State environmental health professionals | Interview Recruitment Screener | 7 | 1 | 5/60
| Interview Guide | 5 | 1 | 1
Poison Control Center directors | Interview Recruitment Screener | 7 | 1 | 5/60
| Interview Guide | 5 | 1 | 1

LeRoy Richardson,
Chief, Information Collection Review Office, Office of Scientific Integrity, Office of the Associate Director for Science, Office of the Director, Centers for Disease Control and Prevention.

[FR Doc. 2013-29695 Filed 12-11-13; 8:45 am]

BILLING CODE 4163-18-P